DEPARTMENT OF COMMERCE

National Oceanic and Atmospheric Administration

RIN 0648-XG320

Marine Mammals; File No. 21678

AGENCY: National Marine Fisheries Service (NMFS), National Oceanic and Atmospheric Administration (NOAA), Commerce.

ACTION: Notice; receipt of application.

SUMMARY: Notice is hereby given that John Calambokidis, Cascadia Research Collective, Waterstreet Building Suite 201, 218½ West Fourth Ave., Olympia, WA 98501, has applied in due form for a permit to conduct research on marine mammals.

DATES: Written, telefaxed, or email comments must be received on or before August 27, 2018.

ADDRESSES: The application and related documents are available for review by selecting “Records Open for Public Comment” from the “Features” box on the Applications and Permits for Protected Species (APPS) home page, https://apps.nmfs.noaa.gov, and then selecting File No. 21678 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to continue long-term studies of marine mammals in the eastern North Pacific. Research would be conducted primarily along the west coast of the United States from the Mexico border to Canada, but may also occur in Alaskan waters and international waters of the Pacific Ocean. Twenty-four cetacean species would be studied, including these listed as endangered or threatened: Blue (Balaenoptera musculus), fin (B. physalus), humpback (Megaptera novaeangliae), Eastern North Pacific Southern Resident killer (Orcinus orca), North Pacific right (Eubalaena japonica), sei (B. borealis), and sperm (Physeter macrocephalus) whales. Research methods vary by species, but would include vessel surveys, aerial surveys, unmanned aircraft systems (UAS), photo-identification, behavioral observations, passive acoustic recordings, underwater photography, sampling (breath, skin, feces, skin/blubber), prey mapping, and suction cup and dart tagging. Five species of pinnipeds, including Steller sea lions (Eumetopias jubatus) would also be studied, primarily at haul out areas in Puget Sound, WA. Seals and sea lions may be disturbed during abundance counts, scat collection, and UAS flights. The research would examine population size and trends, habitat use, social structure, range, movement patterns and rates, diving behavior, diet, ecology, behavior and the impacts of human activities on marine mammals. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 24, 2018.
Julia Marie Harrison,
Chief, Permits and Conservation Division, Office of Protected Resources, National Marine Fisheries Service.

[FR Doc. 2018-16057 Filed 7-26-18; 8:45 am]

BILLING CODE 3510-22-P